DEPARTMENT OF ENERGY

Federal Energy Regulatory Commission

[Project No. 14241-000]

Alaska Energy Authority; Notice of Extension of Time To File Comments on the Proposed Study and Revised Study Plan

On July 16, 2012, Alaska Energy Authority (AEA) filed its proposed study plan for the Susitna-Watana Project No. 14241 as required by the Commission's regulations for implementing the Integrated Licensing Process, making comments on the study plan due October 14, 2012. During the comment period, AEA finalized an agreement among the U.S. Fish and Wildlife Service and the National Marine Fisheries Service to provide supporting resources and specialized expertise necessary to assist the agencies in reviewing AEA's study plans and to actively participate in the remainder of the licensing process. On September 17, 2012, AEA filed a request on behalf of, and supported by, the federal agencies to extend the comment period on the proposed study plan until November 14, 2012. The extension of time would enable the newly hired consultant team to better assist the federal agencies in reviewing and providing comments on the proposed study plan, collaborate with AEA and other licensing participants on the extensive studies, and meet internal agency document review periods. The revised schedule results in AEA filing its revised study plan by December 14, 2012. AEA also requests that comments on the revised study plan be due on January 18, 2013, rather than on December 28, 2012 to avoid the holiday period, making Commission's study plan determination due on February 1, 2013.

Due to complexity of the issues and the large number of proposed studies, and because the extension of time will not delay processing of the license application, the due date for all participants to file comments on the proposed study plan is extended until November 17, 2012, AEA's revised study plan is now due December 14, 2012, and comments on the revised study plan are due January 18, 2013. These revisions to the schedule are granted pursuant to section 5.29(f)(2) of the Commission's regulations. This extension will facilitate AEA's unique collaborative approach to develop study plans.

Dated: September 17, 2012.
Kimberly D. Bose,
Secretary.

[FR Doc. 2012-23421 Filed 9-21-12; 8:45 am]

BILLING CODE 6717-01-P